CONSUMER PRODUCT SAFETY COMMISSION

Submission for OMB Review; Comment Request—Follow-Up Activities for Product-Related Injuries

AGENCY: Consumer Product Safety Commission.

ACTION: Notice.

SUMMARY: As required by the Paperwork Reduction Act of 1995 (44 U.S.C. Chapter 35), the Commission announces that it has submitted to the Office of Management and Budget a request for an extension of the existing approval of collections of information conducted during follow-up activities for product-related injuries.

DATES: Written comments must be received on or before August 18, 2003.

ADDRESSES: Written comments should be captioned “Product-Related Injuries” and mailed to the Office of Information and Regulatory Affairs, Office of Management and Budget, Attention: Desk Officer for CPSC, 725 17th Street, NW., Washington, DC 20503. Copies of comments also may be: mailed to the Office of the Secretary, Consumer Product Safety Commission, Washington, DC 20207; delivered to the Office of the Secretary, Consumer Product Safety Commission, Room 502, 4330 East-West Highway, Bethesda, Maryland, telephone (301) 504-0800; telefacsimilied to (301) 504-0127; or e-mailed to cpsc-os@cpsc.gov.

FOR FURTHER INFORMATION OR A COPY CONTACT: Linda Glatz, Consumer Product Safety Commission, Washington, DC 20207; 301-504-7671 or by e-mail to lglatz@cpsc.gov.

SUPPLEMENTARY INFORMATION:

1. Background

Section 5(a) of the Consumer Product Safety Act (15 U.S.C. 2054(a)) requires the Commission to collect information related to the cause and prevention of death, injury, and illness associated with consumer products, and to conduct continuing studies and investigations of deaths, injuries, diseases, and economic losses resulting from accidents involving consumer products. The Commission uses this information to support rulemaking proceedings, development and improvement of voluntary standards, information and education programs, and administrative and judicial proceedings to remove unsafe products from the marketplace and consumers' homes.

Persons who have been involved with, or who have witnessed, incidents associated with consumer products are an important source of information about deaths, injuries, and illnesses resulting from such incidents. From consumer complaints, newspaper accounts, death certificates, hospital emergency room reports, and other sources, the Commission selects a limited number of accidents for investigation. These investigations may involve face-to-face or telephone interviews with accident victims, witnesses, or other persons having relevant knowledge. The Commission also receives information about product-related injuries from persons who provide written information by using forms displayed on the Commission's Internet Web site or printed in the Consumer Product Safety Review and other Commission publications.

As required by the Paperwork Reduction Act of 1995 (44 U.S.C. Chapter 35)(PRA), the Commission obtained the approval of the Office of Management and Budget (OMB) for this collection of information (OMB control No. 3041-0029). The current approval expires July 31, 2003. The extension is requested for a period of three years from the date of approval.

In the Federal Register of May 5, 2003 (68 FR 23704), the Consumer Product Safety Commission published a notice, required by the PRA, to announce the agency's intention to seek extension of approval of this collection of information. No comments were received in response to this notice.

2. Additional Details About the Request for Approval of a Collection of Information

Agency address: Consumer Product Safety Commission, Washington, DC 20207.

Title of information collection: Follow-Up Activities for Product-Related Injuries.

Type of request: Extension of approval.

Frequency of collection: One time for each respondent.

General description of respondents: Persons who have been involved in, have witnessed, or otherwise have knowledge of incidents associated with consumer products.

Estimated number of respondents: 14,100 total annually; 500 for face-to-face interviews; 3,200 telephone interviews; 5,200 hotline interviews; and 5,200 persons submitting a form.

Estimated annual average number of hours per respondent: 20 min. for each telephone interview; 5.0 hours for each on-site interview; 12 min. to fill out a form; 10 min. for each Hotline interview.

Estimated total annual number of hours for all respondents: 5,472.

3. Comments to OMB on This Request for Extension

Comments on this request for extension of approval of the collection of information should be submitted by August 18, 2003 to the addresses given at the beginning of this notice.

Copies of the request for extension of the information collection and supporting documentation are available from Linda Glatz, Management and Program Analyst, Office of Planning and Evaluation, Consumer Product Safety Commission, Washington, DC 20207; telephone: (301) 504-7671, e-mail lglatz@cpsc.gov.

Dated: July 11, 2003.
Todd A. Stevenson,
Secretary, Consumer Product Safety Commission.

[FR Doc. 03-18169 Filed 7-17-03; 8:45 am]

BILLING CODE 6355-01-P